DEPARTMENT OF COMMERCE

International Trade Administration

[A-475-818]

Certain Pasta From Italy: Preliminary Results of Antidumping Duty Administrative Review; 2017-2018

AGENCY: Enforcement and Compliance, International Trade Administration, Department of Commerce.

SUMMARY: The Department of Commerce (Commerce) preliminarily determines that Ghigi 1870 S.p.A. (Ghigi) and Pasta Zara S.p.A. (Pasta Zara) (collectively Ghigi/Zara) sold certain pasta from Italy (pasta) at less than normal value (NV) during the period of review (POR) July 1, 2017 through June 30, 2018, and Industria Alimentare Colavita S.p.A. (Indalco) did not sell pasta at less than NV during the POR. Interested parties are invited to comment on these preliminary results.

DATES: Applicable September 12, 2019.

FOR FURTHER INFORMATION CONTACT: Joy Zhang or George McMahon, AD/CVD Operations, Office III, Enforcement and Compliance, International Trade Administration, U.S. Department of Commerce, 1401 Constitution Avenue NW, Washington, DC 20230; telephone: (202) 482-1168 or (202) 482-1167, respectively.

Background

On September 10, 2018, Commerce published the notice of initiation of this administrative review of certain pasta from Italy covering the following companies: Agritalia S.r.L. (Agritalia), Francesco Tamma S.p.A. (Tamma), Ghigi, Ghigi Industria Agroalimentare Srl (Ghigi Industria),¹ Pasta Zara, Indalco, La Molisana S.p.A. (La Molisana), and Tesa SrL (Tesa).² Commerce exercised its discretion to toll all deadlines affected by the partial federal government closure from December 22, 2018 through the resumption of operations on January 29, 2019.³ On February 20, 2019, we rescinded the administrative review with respect to Tamma and La Molisana.⁴ On April 16, 2019, Commerce extended the deadline of these preliminary results until September 6, 2019.⁵ The events that have occurred between initiation and these preliminary results are discussed in the Preliminary Decision Memorandum.⁶

¹ Ghigi and Ghigi Industria were listed separately in the Initiation Notice. In the 2015-16 administrative review of this order, Commerce determined that Ghigi 1870 S.p.A. was formerly known as Ghigi Industria. See Certain Pasta From Italy: Final Results of Antidumping Duty Administrative Review; 2015-2016, 82 FR 57428 (December 5, 2017). Accordingly, we are conducting the review on Ghigi and intend to assess antidumping duties calculated for Ghigi to any entries made by Ghigi Industria during the POR.

² See Initiation of Antidumping and Countervailing Duty Administrative Reviews, 83 FR 45596 (September 10, 2018) (Initiation Notice).

³ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

⁴ See Certain Pasta from Italy: Notice of Partial Rescission of Antidumping Duty Administrative Review, 84 FR 5055 (February 20, 2019).

⁵ See Memorandum, “Certain Pasta from Italy: Extension of Time Limit for Preliminary Results of Antidumping Duty Administrative Review; 2017/2018,” dated April 16, 2019.

⁶ See Preliminary Decision Memorandum.

Scope of the Order

The merchandise subject to the Order ⁷ is certain pasta from Italy and is currently classifiable under items 1901.90.90.95 and 1902.19.20 of the Harmonized Tariff Schedule of the United States (HTSUS). Although the HTSUS subheadings are provided for convenience and customs purposes, the written description of the merchandise subject to the order is dispositive. A full description of the scope of the Order is contained in the Preliminary Decision Memorandum.

⁷ See Notice of Antidumping Duty Order and Amended Final Determination of Sales at Less Than Fair Value: Certain Pasta from Italy, 61 FR 38547 (July 24, 1996) (Order).

Methodology

Commerce is conducting this review in accordance with section 751(a)(2) of the Tariff Act of 1930, as amended (the Act). Constructed export price or export price is calculated in accordance with section 772 of the Act. Normal value is calculated in accordance with section 773 of the Act. For a full description of the methodology underlying our preliminary results, see Preliminary Decision Memorandum. The Preliminary Decision Memorandum is a public document and is on file electronically via Enforcement and Compliance's Antidumping and Countervailing Duty Centralized Electronic Service System (ACCESS). ACCESS is available to registered users at https://access.trade.gov and is available to all parties in the Central Records Unit, Room B-8024 of the main Commerce building. In addition, the Preliminary Decision memorandum can be accessed directly at http://enforcement.trade.gov/frn/index.html. A list of the topics discussed in the Preliminary Decision Memorandum is attached as an appendix to this notice.

Preliminary Results of the Review

As a result of this review, we calculated a weighted-average dumping margin of 96.79 percent for Ghigi/Zara ⁸ and 0.00 percent for Indalco for the period July 1, 2017 through June 30, 2018. In accordance with section 735(c)(5)(A) of the Act, we assigned the weighted-average dumping margin calculated for Ghigi/Zara to the following companies that were not selected for individual examination in this review: Agritalia and Tesa.

⁸ In the current review, we continue to treat Ghigi and Zara as a single entity. See Certain Pasta from Italy: Final Results of Antidumping Duty Administrative Review; 2015-2016, 82 FR 57428 (December 5, 2017), and accompanying Issues and Decision Memorandum at Comment 3 (discussing Commerce's determination to collapse Ghigi and Zara).

Producer and/or exporter | Weighted- average dumping margin (percent)
Ghigi 1870 S.p.A. and Pasta Zara S.p.A | 96.79
Industria Alimentare Colavita S.p.A | 0.00
Agritalia S.r.L | 96.79
Tesa SrL | 96.79

Assessment Rates

Upon issuance of the final results in this administrative review, Commerce shall determine, and U.S. Customs and Border Protection (CBP) shall assess, antidumping duties on all appropriate entries in accordance with 19 CFR 351.212(b)(1). If the weighted-average dumping margin for Ghigi/Zara or Indalco is not zero or de minimis (i.e., less than 0.5 percent) in the final results of this review, we will calculate importer-specific ad valorem assessment rates on the basis on the ratio of the total amount of antidumping duties calculated for each importer's examined sales and the total entered value of the sales in accordance with 19 CFR 351.212(b)(1).⁹ We will instruct CBP to assess antidumping duties on all appropriate entries covered by this review when the importer-specific assessment rate calculated in the final results of this review is above de minimis. Where the respondent's weighted-average dumping margin is zero or de minimis, or an importer-specific assessment rate is zero or de minimis, we will instruct CBP to liquidate the appropriate entries without regard to antidumping duties. The final results of this review shall be the basis for the assessment of antidumping duties on entries of merchandise covered by the final results of this review and for future deposits of estimated duties, where applicable.

⁹ In these preliminary results, we applied the assessment rate calculation method adopted in Antidumping Proceedings: Calculation of the Weighted-Average Dumping Margin and Assessment Rate in Certain Antidumping Duty Proceedings; Final Modification, 77 FR 8101 (February 14, 2012).

For entries of subject merchandise during the POR produced by the respondent for which it did not know that its merchandise was destined for the United States, we will instruct CBP to liquidate unreviewed entries at the all-others rate if there is no rate for the intermediate company(ies) involved in the transaction.

We intend to issue instructions to CBP 15 days after the date of publication of the final results of this review.

Cash Deposit Requirements

The following cash deposit requirements will be effective upon publication of the notice of final results of administrative review for all shipments of pasta from Italy entered, or withdrawn from warehouse, for consumption on or after the publication of the final results of this administrative review, as provided by section 751(a)(2) of the Act: (1) The cash deposit rate for respondents noted above will be the rate established in the final results of this administrative review; (2) for merchandise exported by producers or exporters not covered in this administrative review but covered in a prior segment of the proceeding, the cash deposit rate will continue to be the company-specific rate published for the most recently completed segment of this proceeding; (3) if the exporter is not a firm covered in this review, a prior review, or the original investigation, but the producer is, the cash deposit rate will be the rate established for the most recently completed segment of this proceeding for the producer of the subject merchandise; and (4) the cash deposit rate for all other producers or exporters will continue to be 15.45 percent, the all-others rate established in the antidumping investigation as modified by the section 129 determination.¹⁰ These cash deposit requirements, when imposed, shall remain in effect until further notice.

¹⁰ See Implementation of the Findings of the WTO Panel in US—Zeroing (EC): Notice of Determinations Under Section 129 of the Uruguay Round Agreements Act and Revocations and Partial Revocations of Certain Antidumping Duty Orders, 72 FR 25261 (May 4, 2007).

Disclosure and Public Comment

Commerce intends to disclose to the parties to the proceeding the calculations performed in connection with these preliminary results to interested parties within five days of publication of this notice.¹¹

¹¹ See 19 CFR 351.224(b).

Interested parties may submit case briefs to Commerce in response to these preliminary results no later than 30 days after the publication of this notice.¹² Rebuttal briefs, limited to issues raised in the case briefs, may be filed no later than five days after the date for filing case briefs.¹³ Parties who submit case briefs or rebuttal briefs in this proceeding are encouraged to submit with each argument: (1) A statement of the issue; (2) a brief summary of the argument; and (3) a table of authorities.¹⁴

¹² See 19 CFR 351.309(c)(1)(ii).

¹³ See 19 CFR 351.309(d)(1) and (2).

¹⁴ See 19 CFR 351.309(c)(2) and (d)(2) and 19 CFR 351.303 (for general filing requirements).

Pursuant to 19 CFR 351.310(c), interested parties who wish to request a hearing must submit a written request to the Assistant Secretary for Enforcement and Compliance, filed electronically via ACCESS. An electronically-filed request for a hearing must be received successfully in its entirety by ACCESS by 5 p.m. Eastern Time within 30 days after the date of publication of this notice.¹⁵ Hearing requests should contain: (1) The party's name, address, and telephone number; (2) the number of participants; and (3) a list of issues to be discussed. Issues raised in the hearing will be limited to issues raised in the briefs. If a request for a hearing is made, parties will be notified of the time and date for the hearing to be held at the U.S. Department of Commerce, 1401 Constitution Avenue NW, Washington, DC 20230.¹⁶

¹⁵ See 19 CFR 351.310(c); 19 CFR 351.303(b)(1).

¹⁶ See 19 CFR 351.310(c).

Commerce intends to issue the final results of this administrative review, including the results of our analysis of the issues raised in any written briefs, not later than 120 days after the date of publication of these preliminary results in the Federal Register, unless otherwise extended.¹⁷

¹⁷ See section 751(a)(3)(A) of the Act.

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these results in accordance with sections 751(a)(1) and 777(i)(1) of the Act, and 19 CFR 351.213(h)(1).

Dated: September 6, 2019.
Jeffrey I. Kessler,
Assistant Secretary for Enforcement and Compliance.

Appendix

List of Topics Discussed in the Preliminary Decision Memorandum

I. Summary

II. Background

III. Scope of the Order

IV. Discussion of Methodology

V. Recommendation

[FR Doc. 2019-19790 Filed 9-11-19; 8:45 am]

BILLING CODE 3510-DS-P